DEPARTMENT OF COMMERCE

International Trade Administration

[C-201-861]

Aluminum Extrusions From Mexico: Preliminary Affirmative Countervailing Duty Determination and Alignment of Final Determination With Final Antidumping Duty Determination; Correction and Retraction

AGENCY: Enforcement and Compliance, International Trade Administration, Department of Commerce.

ACTION: Notice; correction and retraction.

SUMMARY: The U.S. Department of Commerce (Commerce) published two notices in the Federal Register on March 15, 2024. One notice is a correction notice that contains a typographical error and the other notice is a duplicate of a previously published notice.

FOR FURTHER INFORMATION CONTACT: Christopher Williams, AD/CVD Operations, Office I, Enforcement and Compliance, International Trade Administration, U.S. Department of Commerce, 1401 Constitution Avenue NW, Washington, DC 20230; telephone: (202) 482-5166.

SUPPLEMENTARY INFORMATION:

Background

On March 15, 2024, Commerce published in the Federal Register a correction (FR Doc. C1-2024-05068) ¹ and a duplicate (FR Doc. 2024-05534) ² of Aluminum Extrusions from Mexico: Preliminary Affirmative Countervailing Duty Determination and Alignment of Final Determination With Final Antidumping Duty Determination, 89 FR 17387 (March 11, 2024) (Preliminary Determination). FR Doc. C1-2024-05068 misidentifies the Federal Register document number of the Preliminary Determination. FR Doc. 2024-05534 is an inadvertently published duplicate notice of the Preliminary Determination.

¹ See Aluminum Extrusions from Mexico: Preliminary Affirmative Countervailing Duty Determination and Alignment of Final Determination With Final Antidumping Duty Determination; Correction, 89 FR 18894 (March 15, 2024) (FR Doc. C1-2024-05068).

² See Aluminum Extrusions from Mexico: Preliminary Affirmative Countervailing Duty Determination and Alignment of Final Determination With Final Antidumping Duty Determination, 89 FR 18894 (March 15, 2024) (FR Doc. 2024-05534).

Correction

In the Federal Register of March 15, 2024, in FR Doc C1-2024-05068, on page 18894, in the third column, correct 2024-05086 to 2024-05068.

Retraction

From the Federal Register of March 15, 2024, pages 18894 to 18899, retract FR Doc 2024-05534. As such, FR Doc 2024-05534 should be disregarded.

Notification to Interested Parties

This notice is issued and published in accordance with section 703(f) and 777(i)(1) of the Tariff Act of 1930, as amended, and 19 CFR 351.205(c).

Dated: April 9, 2024.
Ryan Majerus,
Deputy Assistant Secretary for Policy and Negotiations, performing the non-exclusive functions and duties of the Assistant Secretary for Enforcement and Compliance.

[FR Doc. 2024-07857 Filed 4-12-24; 8:45 am]

BILLING CODE 3510-DS-P